ENVIRONMENTAL PROTECTION AGENCY

40 CFR Part 63

[FRL-7385-7]

RIN 2060-AG57

National Emission Standards for Hazardous Air Pollutants: Surface Coating of Plastic Parts and Products

Correction

In proposed rule document 02-29073 beginning on page 72276 in the issue of Wednesday, December 4, 2002 make the following corrections:

§ 63.4561 [Corrected]

1. On page 72313, in §63.4561, in the second column, in the third equation, Equation 3A is corrected to read as set forth below.

2. On page 72314, in the same section, in the same column, in the second equation, Equation 3C is corrected to read as set forth below.

[FR Doc. C2-29073 Filed 12-18-02; 8:45 am]

BILLING CODE 1505-01-D